JUDICIAL CONFERENCE OF THE UNITED STATES

Hearings of the Judicial Conference Advisory Committee on Rules of Appellate, Bankruptcy, and Criminal Procedure

AGENCY: Advisory Committees on Rules of Appellate, Bankruptcy, and Criminal Procedure; Judicial Conference of the United States.

ACTION: Notice of cancellation of two open hearings and rescheduling of two open hearings.

SUMMARY: The following public hearings on proposed rules amendments have been canceled:

• Criminal Rules in Atlanta, Georgia, on January 23, 2004; and

• Bankruptcy Rules in Washington, DC., on January 30, 2004.

• The two public hearings on proposed amendments to the Appellate Rules, originally scheduled for January 20, 2004, in Los Angeles, California, and for January 26, 2004, in Washington, DC., have both been rescheduled, for April 13, 2004, in Washington, DC. The hearing will be held at 8:30 a.m., in the Fourth Floor Agency Conference Room of the Thurgood Marshall Federal Judiciary building, One Columbus Circle, NW.

[Original notice of all four hearings appeared in the Federal Register of September 10, 2003.]

FOR FURTHER INFORMATION CONTACT: John K. Rabiej, Chief, Rules Committee Support Office, Administrative Office of the United States Courts, Washington, DC 20544, telephone (202) 502-1820.

Dated: January 12, 2004.
John K. Rabiej,
Chief, Rules Committee Support Office.

[FR Doc. 04-911 Filed 1-14-04; 8:45 am]

BILLING CODE 2210-55-M